DEPARTMENT OF DEFENSE

Office of the Secretary of Defense

Reestablishment of the Defense Advisory Committee on Women in the Services

AGENCY: Department of Defense.

ACTION: Notice.

SUMMARY: The Defense Advisory Committee on Women in the Services (DACOWITS) is reestablished, in consonance with the public interest, and in accordance with the provisions of the “Federal Advisory Committee Act.” On March 5, 2002, the Deputy Secretary of Defense approved a revised charter for the DACOWITS.

The Committee shall provide the Secretary of Defense, through the Assistant Secretary of Defense (Force Management Policy), advice and recommendations on matters and policies relating to the recruitment and retention, treatment, employment, integration, and well-being of highly qualified professional women in the Armed Forces. In addition, the Committee shall provide advice and recommendations on family issues related to the recruitment and retention of a highly qualified professional military.

The Defense Advisory Committee on Women in the Services (DACOWITS) will be well balanced in terms of the interest groups represented and functions to be performed. The Committee shall be composed of not more than 35 civilian members, representing an equitable distribution of demography, professional career fields, community service, and geography, and selected on the basis of their experience in the military, as a member of a military family, or with women's or family-related workforce issues.

FOR FURTHER INFORMATION CONTACT: Ms. Jennifer Spaeth, DoD Committee Management Officer, 703-695-4281.

Dated: March 26, 2002.
L.M. Bynum,
Alternate OSD Federal Register Liaison Officer, Department of Defense.

[FR Doc. 02-7861 Filed 4-1-02; 8:45 am]

BILLING CODE 5001-08-M